DEPARTMENT OF DEFENSE

Office of the Secretary

[Docket ID: DoD-2022-OS-0073]

Proposed Collection; Comment Request

AGENCY: The Office of the Under Secretary of Defense for Personnel and Readiness (OUSD(P&R)), Department of Defense (DoD).

ACTION: 60-day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 22, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: Department of Defense Authorization Statement for Overseas Medical Services for Employees and Family Members; DD Form 3182; OMB Control Number 0704-ASOM.

Needs and Uses: The information requested on DD Form 3182 is necessary to authorize the transfer of reimbursement rights from the health insurance provider to DoD, or to document an employee's debt acknowledgement and repayment agreement for services rendered and medical expenses covered by the department on behalf of the employee or the employee's dependents. The employing office will provide DD Form 3182 to employees when their travel orders are issued for foreign overseas assignments. Employees must initial where indicated and sign DD Form 3182 to receive advanced funding and medical services for covered medical expenses.

Affected Public: Individuals or households.

Annual Burden Hours: 2,265.05 hours.

Number of Respondents: 45,301.

Responses per Respondent: 1.

Annual Responses: 45,301.

Average Burden per Response: 3 minutes.

Frequency: On occasion.

Dated: June 15, 2022.
Aaron T. Siegel,
Alternate OSD Federal Register Liaison Officer, Department of Defense.

[FR Doc. 2022-13268 Filed 6-21-22; 8:45 am]

BILLING CODE 5001-06-P